DEPARTMENT OF HOUSING AND URBAN DEVELOPMENT

[Docket No. FR-4932-FA-03]

Announcement of Funding Awards For the Rural Housing and Economic Development Program Fiscal Year 2004

AGENCY: Office of the Assistant Secretary for Community Planning and Development, HUD.

ACTION: Notice of funding awards.

SUMMARY: In accordance with section 102 (a)(4)(C) of the Department of Housing and Urban Development Reform Act of 1989, this announcement notifies the public of funding decisions made by the Department in a competition for funding under the Notice of Funding Availability (NOFA) for the Rural Housing and Economic Development Program. This announcement contains the names of the awardees and the amounts of the awards made available by HUD.

FOR FURTHER INFORMATION CONTACT: Jackie L. Williams, Ph.D., Director, Office of Rural Housing and Economic Development, Office of Community Planning and Development, 451 Seventh Street, SW., Room 7137, Washington, DC 20410-7000; telephone 202-708-2290 (this is not a toll-free number). Hearing- and speech-impaired persons may access this number via TTY by calling the Federal Relay Service toll-free at 800-877-8339. For general information on this and other HUD programs, call Community Connections at 800-998-9999 or visit the HUD Web site at http://www.hud.gov.

SUPPLEMENTARY INFORMATION: The Rural Housing and Economic Development program was authorized by the Department of Veterans Affairs, Housing and Urban Development and Independent Agencies Appropriations Act of 1999. The competition was announced in the NOFA published April 23, 2004 (69 FR 22320). Applications were rated and selected for funding on the basis of selection criteria contained in that notice.

The Catalog of Federal Domestic Assistance number for this program is 14.250.

The Rural Housing and Economic Development Program is designed to build capacity at the state and local level for rural housing and economic development and to support innovative housing and economic development activities in rural areas. Eligible applicants are local rural non-profit organizations, community development corporations, federally recognized Indian tribes, state housing finance agencies, and state community and/or economic development agencies. The funds made available under this program were awarded competitively, through a selection process conducted by HUD.

Prior to the rating and ranking of the Fiscal Year (FY) 2004 applications, Rural Enterprises of Oklahoma, Inc. in Durant, Oklahoma, was awarded $150,000, and Eastern Shore of Virginia, Habitat for Humanity, in Exmore, Virginia, was awarded $149,683 as a result of funding errors during the previous year's funding. For the FY2004 competition, a total of $24,619,153 was awarded to 105 projects nationwide.

In accordance with section 102(a)(4)(C) of the Department of Housing and Urban Development Reform Act of 1989 (103 Stat. 1987, 42 U.S.C. 3545), the Department is publishing the grantees and amounts of the awards in Appendix A to this document.

Dated: December 5, 2004.
Nelson R. Bregón,
General Deputy Assistant Secretary for Community Planning and Development.

Appendix A Fiscal Year 2004 Funding Awards for the Rural Housing and Economic Development Program

Recipient | City | State | Award
Rural Alaska Community Action Program, Inc | Anchorage | AK | $150,000
Collaborative Solutions, Inc | Birmingham | AL | 400,000
The Hale Empowerment and Revitalization Organization (HERO) | Greensboro | AL | 138,168
Ark of Love Ministries, Inc | Hayneville | AL | 146,150
Health Services Center, Inc | Anniston | AL | 50,000
Alabama Rural Heritage Foundation, Inc | Thomaston | AL | 150,000
Mississippi County Arkansas E.O.C. | Blytheville | AR | 101,087
Chicot Housing Assistance Corporation | Lake Village | AR | 125,000
Crawford-Sebastian Community Development Council, Inc | Fort Smith | AR | 150,000
South Arkansas Community Development | Arkadelphia | AR | 150,000
Navajo Partnership for Housing, Inc | Saint Michaels | AZ | 400,000
Arizona Department of Housing | Phoenix | AZ | 400,000
Moenkopi Developers Corporation | Tuba City | AZ | 121,900
Hualapal Indian Tribe | Peach Springs | AZ | 150,000
White Mountain Apache Tribe | Whiteriver | AZ | 150,000
Housing Assistance Corporation | Fresno | CA | 400,000
Self-Help Enterprises | Visalia | CA | 400,000
Imperial Valley Habitat For Humanity | El Centro | CA | 400,000
Santa Ysabel Band of Diegueno Indians | Santa Ysabel | CA | 400,000
Cultural Marketing Center | Fresno | CA | 150,000
Relational Culture Institute | Fresno | CA | 150,000
Bishop Paiute Tribe | Bishop | CA | 142,212
Yolo Housing Foundation | Woodland | CA | 69,872
Intertribal Economic Alliance | Boulder | CO | 400,000
Everglades Community Association, Inc | Florida City | FL | 400,000
Clay County Habitat for Humanity/Middleburg | Middleburg | FL | 73,186
Florence Villa Community Development Corporation | Winter Haven | FL | 150,000
Seminole Tribe of Florida | Hollywood | FL | 150,000
Southwest United Empowerment Zone, Inc | Vienna | GA | 400,000
JCVISION and Associates, Inc | Hinesville | GA | 398,028
Crisp Area Habitat for Humanity, Inc | Cordele | GA | 21,826
Maui Economic Opportunity, Inc | Wailuku | HI | 150,000
Shoshone-Bannock Tribes | Fort Hall | ID | 380,310
Coeru d'Alene Tribe | Plummer | ID | 150,000
Original Town of Liberal Revitalization, Incorporated (OTLR), Inc | Liberal | KS | 150,000
Frontier Housing, Inc | Morehead | KY | 400,000
Southern Kentucky Economic Development Corporation (SKED) | Somerset | KY | 400,000
Kentucky Housing Corporation | Frankfort | KY | 400,000
Hazard Perry County Housing Development Alliance, Inc | Hazard | KY | 150,000
Purchase Area Housing Corporation | Mayfield | KY | 150,000
Owsley County Action Team | Booneville | KY | 150,000
Low Income Housing Coalition East Kentucky, Inc | Prestonsburg | KY | 84,000
Louisiana Technical College Tallulah Foundation | Tallulah | LA | 150,000
Seventh District Pavilion, Inc | Crowley | LA | 150,000
Growth Council of Oxford Hills | South Paris | ME | 150,000
Penobscot Indian Nation | Old Town | ME | 87,350
Pokagon Band of Potawatomi Indians | Dowagiac | MI | 150,000
Choctaw Housing Authority | Choctaw | MS | 400,000
Life Renewal Ministries, Inc | Starkville | MS | 400,000
Mississippi Homebuyer Education Center-Mississippi Housing Initiative | Jackson | MS | 150,000
Action for Eastern Montana, Inc | Glendive | MT | 393,033
Kootenai River Development Council, Inc | Libby | MT | 150,000
Native American Development Corporation | Billings | MT | 150,000
Anaconda Local Development Corporation | Anaconda | MT | 145,418
Eastern Band of Cherokee Indians | Cherokee | NC | 400,000
Haliwa-Saponi Indian Tribe, Inc | Hollister | NC | 399,580
Turtle Mountain Band of Chippewa | Abercrombie | ND | 150,000
Ho-Chunk Community Development Corporation | Walthill | NE | 350,000
West Central Nebraska Development District, Inc | Ogallala | NE | 150,000
Women's Rural Entrepreneurial Network-WREN | Bethlehem | NH | 400,000
Eastern Plains Housing Development Corporation | Clovis | NM | 400,000
Dona Ana County Colonias Development Council | Las Cruces | NM | 400,000
Pueblo of San Juan | San Juan Pueblo | NM | 400,000
Las Cruces Affordable Housing, Inc | Las Cruces | NM | 150,000
Centro Fuerza y Unidad, Dona Ana County, NM (CFU) | Mesquite | NM | 139,920
Pueblo de Cochiti | Cochiti Pueblo | NM | 150,000
Sandoval County Economic Development Corporation | Bernalillo | NM | 150,000
Housing & Economic Rural Opportunity, Inc | Las Cruces | NM | 150,000
Akwesasne Indian Housing Authority | Hogansburg | NY | 395,034
Albany County Rural Housing Alliance, Inc | Voorheesville | NY | 150,000
Bishop Sheen Ecumenical Housing Foundation, Inc | Rochester | NY | 100,000
WSOS Community Action Commission, Inc | Fremont | OH | 150,000
Jackson-Vinton Community Action, Inc | Wellston | OH | 150,000
Citizen Potawatomi Nation | Shawnee | OK | 400,000
Rural Enterprise of Oklahoma, Inc | Durant | OK | 400,000
Umpqua Community Development Corporation | Roseburg | OR | 65,000
Mennonite Economic Development Associates | Lancaster | PA | 150,000
Waccamaw Regional Council of Governments | Georgetown | SC | 150,000
South Carolina Center for Fathers and Families | Columbia | SC | 150,000
Central South Dakota Enhancement District | Pierre | SD | 146,423
Miner County Community Revitalization | Howard | SD | 150,000
West Tennessee Legal Services, Inc | Jackson | TN | 400,000
LeMoyne-Owen College Community Development Corporation | Memphis | TN | 149,955
Douglass-Cherokee Economic Authority, Inc | Morristown | TN | 149,237
Aid to Distressed Families of Appalachian Counties, Inc. (ADFAC) | Oak Ridge | TN | 65,665
Proyecto Azteca | San Juan | TX | 400,000
Azteca Community Loan Fund | San Juan | TX | 400,000
Neighborhood Housing Services of Dimmit County, Inc | Carrizo Springs | TX | 400,000
Community Development Corporation of South Texas, Inc. (CDCST) | McAllen | TX | 400,000
El Paso Empowerment Zone Corporation | El Paso | TX | 400,000
ACCION Texas, Inc | San Antonio | TX | 150,000
Statewide Consolidated CDC | Beaumont | TX | 149,717
Community Development Corporation of Utah | Salt Lake City | UT | 400,000
Northwestern Band of Shoshone | Brigham City | UT | 150,000
Neighborhood Nonprofit Housing Corporation | Logan | UT | 150,000
Southeast Rural Community Assistance Project, Inc | Roanoke | VA | 150,000
Southern Puget Sound Inter-Tribal Housing Authority | Shelton | WA | 395,012
World Vision, Inc | Federal Way | WA | 400,000
The Alesek Institute | Fife | WA | 136,070
Spokane Tribe of Indians | Wellpinit | WA | 150,000
Red Cliff ABND of Lake Superior Chippewas | Bayfield | WI | 400,000
West Central Wisconsin Community Action Agency, Inc. (West CAP) | Glenwood City | WI | 250,000
Northwoods Niijii Enterprise Community, Inc | Crandon | WI | 150,000
Southern Appalachian Labor School | Kincaid | WV | 400,000
Kanawha Institute for Social Research & Action, Inc. (KISRA) | Dunbar | WV | 150,000
Total |  |  | 24,619,153.

[FR Doc. E5-527 Filed 2-8-05; 8:45 am]

BILLING CODE 4210-27-P